DEPARTMENT OF JUSTICE

Notice of Lodging of Proposed Consent Decree Under the Comprehensive Environmental Response, Compensation, and Liability Act

On May 3, 2016, the Department of Justice lodged a proposed Consent Decree with the United States District Court for the Virgin Islands, Bankruptcy Division in United States v. CAG International, Inc., Case No. 1:16-cv-00023. In this action bought under the Comprehensive Environmental Response, Compensation and Liability Act (“CERCLA”), 42 U.S.C. 9601 et seq., the United States seeks to recover environmental response costs incurred at the TC Waste Oil Superfund Site in St. Croix. Under the proposed Consent Decree, CAG International, Inc. will reimburse EPA $137,500 to resolve the company's liability related to the Site.

The publication of this notice opens a period for public comment on the Consent Decree. Comments should be addressed to the Assistant Attorney General, Environment and Natural Resources Division, and should refer United States v. CAG International, Inc., D.J. Ref. No. 90-11-3-10248/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $4.00 (25 cents per page reproduction cost) payable to the United States Treasury.

Robert E. Maher Jr.,
Assistant Section Chief, Environmental Enforcement Section, Environment and Natural Resources Division.

[FR Doc. 2016-11418 Filed 5-13-16; 8:45 am]

BILLING CODE 4410-15-P